DEPARTMENT OF HOMELAND SECURITY

Coast Guard

33 CFR Part 165

[Docket No. USCG-2013-1060]

RIN 1625-AA00

Safety Zones; Eighth Coast Guard District Annual and Recurring Safety Zones Update

AGENCY: Coast Guard, DHS.

ACTION: Interim final rule; request for comments.

SUMMARY: The Coast Guard is amending and updating its current list of recurring safety zone regulations that take place in the Eighth Coast Guard District area of responsibility (AOR). This interim rule informs the public of regularly scheduled events that require additional safety measures through establishing a safety zone. Through this interim rule the current list of recurring safety zones is updated with revisions, additional events, and removal of events that no longer take place in the Eighth Coast Guard District AOR. When these safety zones are enforced, vessel traffic is restricted from specified areas. Additionally, this one rulemaking project reduces administrative costs involved in producing a separate rule for each individual recurring safety zone and serves to provide notice of the known recurring safety zones throughout the year.

DATES: This rule is effective April 22, 2014. Comments and related material must be received by the Coast Guard on or before May 22, 2014.

ADDRESSES: Documents mentioned in this preamble are part of Docket Number USCG-2013-1060. To view documents mentioned in this preamble as being available in the docket, go to http://www.regulations.gov, type the docket number in the “SEARCH” box and click “SEARCH.” Click on “Open Docket Folder” on the line associated with this rulemaking. You may also visit the Docket Management Facility in Room W12-140 on the ground floor of the Department of Transportation West Building, 1200 New Jersey Avenue SE., Washington, DC 20590, between 9 a.m. and 5 p.m., Monday through Friday, except Federal holidays.

You may submit comments, identified by docket number, using any one of the following methods:

(1) Federal eRulemaking Portal: http://www.regulations.gov.

(2) Fax: (202) 493-2251.

(3) Mail or Delivery: Docket Management Facility (M-30), U.S. Department of Transportation, West Building Ground Floor, Room W12-140, 1200 New Jersey Avenue SE., Washington, DC 20590-0001. Deliveries accepted between 9 a.m. and 5 p.m., Monday through Friday, except federal holidays. The telephone number is 202-366-9329.

See the “Public Participation and Request for Comments” portion of the SUPPLEMENTARY INFORMATION section below for further instructions on submitting comments. To avoid duplication, please use only one of these three methods.

FOR FURTHER INFORMATION CONTACT: If you have questions on this rule, call or email Shelley R. Miller, Eighth Coast Guard District Waterways Management Division, (504) 671-2139 or email, Shelley.R.Miller@uscg.mil. If you have questions on viewing the docket, call Cheryl Collins, Program Manager, Docket Operations, telephone 202-366-9826.

SUPPLEMENTARY INFORMATION:

Table of Acronyms

BNM Broadcast Notice to Mariners

COTP Captain of the Port

DHS Department of Homeland Security

FR Federal Register

LNM Local Notice to Mariners

NPRM Notice of Proposed Rulemaking

A. Public Participation and Request for Comments

We encourage you to participate in this rulemaking by submitting comments and related materials. All comments received will be posted without change to http://www.regulations.gov and will include any personal information you have provided.

1. Submitting Comments

If you submit a comment, please include the docket number for this rulemaking, indicate the specific section of this document to which each comment applies, and provide a reason for each suggestion or recommendation. You may submit your comments and material online at http://www.regulations.gov, or by fax, mail, or hand delivery, but please use only one of these means. If you submit a comment online, it will be considered received by the Coast Guard when you successfully transmit the comment. If you fax, hand deliver, or mail your comment, it will be considered as having been received by the Coast Guard when it is received at the Docket Management Facility. We recommend that you include your name and a mailing address, an email address, or a telephone number in the body of your document so that we can contact you if we have questions regarding your submission.

To submit your comment online, go to http://www.regulations.gov, type the docket number [USCG-2013-1060] in the “SEARCH” box and click “SEARCH.” Click on “Submit a Comment” on the line associated with this rulemaking.

If you submit your comments by mail or hand delivery, submit them in an unbound format, no larger than 8½ by 11 inches, suitable for copying and electronic filing. If you submit comments by mail and would like to know that they reached the Facility, please enclose a stamped, self-addressed postcard or envelope. We will consider all comments and material received during the comment period and may change the rule based on your comments.

2. Viewing Comments and Documents

To view comments, as well as documents mentioned in this preamble as being available in the docket, go to http://www.regulations.gov, type the docket number (USCG-2013-1060) in the “SEARCH” box and click “SEARCH.” Click on Open Docket Folder on the line associated with this rulemaking. You may also visit the Docket Management Facility in Room W12-140 on the ground floor of the Department of Transportation West Building, 1200 New Jersey Avenue SE., Washington, DC 20590, between 9 a.m. and 5 p.m., Monday through Friday, except Federal holidays.

3. Privacy Act

Anyone can search the electronic form of comments received into any of our dockets by the name of the individual submitting the comment (or signing the comment, if submitted on behalf of an association, business, labor union, etc.). You may review a Privacy Act notice regarding our public dockets in the January 17, 2008, issue of the Federal Register (73 FR 3316).

4. Public Meeting

We do not now plan to hold a public meeting. But you may submit a request for one, using one of the methods specified under ADDRESSES. Please explain why you believe a public meeting would be beneficial. If we determine that one would aid this rulemaking, we will hold one at a time and place announced by a later notice in the Federal Register.

B. Regulatory History and Information

The Coast Guard is issuing this interim final rule without prior notice and opportunity to comment pursuant to authority under section 4(a) of the Administrative Procedure Act (APA) (5 U.S.C. 553(b)). This provision authorizes an agency to issue a rule without prior notice and opportunity to comment when the agency for good cause finds that those procedures are “impracticable, unnecessary, or contrary to the public interest.” Under 5 U.S.C. 553(b)(B), the Coast Guard finds that good cause exists for not publishing a notice of proposed rulemaking (NPRM) with respect to this rule. This interim rule is effective upon publication without prior notice through publication in the Federal Register, but also invites comments regarding the updated list of safety zones. The Coast Guard will address all comments accordingly, whether through response, additional revision to the regulation, or otherwise. Completing the full NPRM process would unnecessarily delay the effective dates for the safety zones listed to occur in April and May of 2014. This interim rule, prepared to provide the most up to date list of recurring events requiring safety zones, provides ample notice for all listed safety zones occurring after May. Additionally, these recurring events are noticed to the public through local avenues and planned on by the local communities.

The current list of annual and recurring safety zones occurring in the Eighth Coast Guard District AOR is published under 33 CFR 165.801. That list was created May 16, 2012 through a previous rulemaking, [77 FR 2876] and received no adverse comments. The May 2012 rulemaking established 33 CFR 165.801 creating the current comprehensive list of recurring safety zones. In addition to amending and updating the current list, this interim rule provides additional clarity by separating the events and safety zones according to each Coast Guard Sector within the Eighth District.

For the same reasons, under 5 U.S.C. 553(d)(3), the Coast Guard finds that good cause exists for making this rule effective less than 30 days after publication in the Federal Register. Providing a 30-day notice would unnecessarily delay the safety zone effective dates for the events listed to occur in April and May of 2014, which are also noticed to the public through local avenues and are planned on by the local communities.

C. Basis and Purpose

The legal basis for the rule is 33 U.S.C. 1231; 46 U.S.C. Chapter 701, 3306, 3703; 50 U.S.C. 191, 195; 33 CFR 1.05-1, 6.04-1, 6.04-6 and 160.5; Public Law 107-295, 116 Stat. 2064; and Department of Homeland Security Delegation No. 0170.1, which collectively authorize the Coast Guard to define regulatory safety zones. The Coast Guard is amending and updating the safety zone regulations under 33 CFR part 165 to include the most up to date list of recurring safety zones for events held on or around navigable waters within the Eighth Coast Guard District. These events include air shows, fireworks displays, and other marine related events requiring a limited access area restricting vessel traffic for safety purposes. The current list under 33 CFR 165.801 requires amending to provide new information on existing safety zones and updating to include new safety zones expected to recur annually or biannually and to remove safety zones that are no longer required. Issuing individual regulations for each new safety zone, amendment, or removal of an existing safety zone creates unnecessary administrative costs and burdens. This single rulemaking considerably reduces administrative overhead and provides the public with notice through publication in the Federal Register of the upcoming recurring safety zone regulations.

The Coast Guard encourages the public to participate in this rulemaking through the comment process so that any necessary changes necessary can be identified and implemented in a timely and efficient manner.

D. Discussion of the Interim Rule

33 CFR part 165 contains regulations establishing limited access areas to restrict vessel traffic for the safety of persons and property. Section 165.801 establishes recurring safety zones to restrict vessel transit into and through specified areas to protect spectators, mariners, and other persons and property from potential hazards presented during certain events taking place in the Eighth Coast Guard District AOR. This section requires amendment from time to time to properly reflect the recurring safety zone regulations in the Eighth Coast Guard District. This interim rule amends and updates Section 165.801 replacing the current Table 1 with seven separate tables, one for each Sector within the Coast Guard's Eighth District as follows:

Table 1—Sector Ohio Valley

Table 2—Sector Upper Mississippi River

Table 3—Houston Galveston

Table 4—Corpus Christi

Table 5—New Orleans

Table 6—Sector Lower Mississippi River

Table 7—Sector Mobile

Categorizing the safety zone regulations by Sector eliminates dual numbering within the District list and then again by Sector. Listing safety zone regulations by Sector also provides easier and quicker reference to a specific regulation.

Additionally, this rule adds 31 new recurring safety zones and removes 12 safety zones as follows: 26 added under the new Table 1 for Sector Ohio Valley.

Date | Sponsor/name | Location | Regulated area
Multiple days—April through November | Pittsburgh Riverhounds/Riverhounds Fireworks | Pittsburgh, PA | Monongahela River, Mile 0.22-0.77.
3 days—Second or third weekend in June | Hadi Shrine/Evansville Freedom Festival Air Show | Evansville, IN | Ohio River, Miles 791.0-795.0 (Indiana).
1 day—Second or third Saturday in June, the last day of the Riverbend Festival | Friends of the Festival, Inc./Riverbend Festival Fireworks | Chattanooga, TN | Tennessee River, Mile 463.5-464.5 (Tennessee).
2 days—Second Friday and Saturday in June | City of Newport, KY/Italianfest | Newport, KY | Ohio River, Miles 469.6-470.0 (Kentucky and Ohio).
1 day—Last Saturday in June | City of Aurora/Aurora Firecracker Festival | Aurora, IN | Ohio River Mile, 496.7; 1400 ft. radius from the Consolidated Grain Dock located along the State of Indiana shoreline at (Indiana and Kentucky).
1 day—second weekend in June | City of St. Albans/St. Albans Town Fair | St. Albans, WV | Kanawha River, Mile 46.3-47.3 (West Virginia).
1 day—Saturday before July 4th | PUSH Beaver County/Beaver County Boom | Beaver, PA | Ohio River, Mile 024.3-025.1 (Pennsylvania).
1 day—4th of July (Rain date—July 5th) | Monongahela Area Chamber of Commerce/Monongahela 4th of July Celebration | Monongahela, PA | Monongahela River, Mile 032.0-033.0 (Pennsylvania).
1 day—Saturday of the last full week in July (Rain date—following Sunday) | Oakmont Yacht Club/Oakmont Yacht Club Fireworks | Oakmont, PA | Allegheny River, Mile 12.0-12.5 (Pennsylvania).
2 days—Week of July 4th | Three Rivers Regatta/Three River Regatta and Fireworks | Pittsburgh, PA | Ohio River, Mile 0.0-0.5, Allegheny River, Mile 0.0-0.5, and Monongahela River, Mile 0.0-0.5 (Pennsylvania).
1 day—3rd or 4th of July | City of Paducah, KY | Paducah, KY | Ohio River, Mile 931.0-933.0 (Kentucky).
1 day—3rd or 4th of July | City of Hickman, KY | Hickman, KY | Lower Mississippi River, Mile 921.0-923.0 (Kentucky).
1 day—During the first week of July | Evansville Freedom Celebration | Evansville, IN | Ohio River, Miles 791.0-795.0 (Indiana).
3 days—One of the first two weekends in July | Madison Regatta, Inc./Madison Regatta | Madison, IN | Ohio River, Miles 555.0-560.0 (Indiana).
1 day—July 4th | Cities of Cincinnati, OH and Newport, KY/July 4th Fireworks | Newport, KY | Ohio River, Miles 469.6-470.2 (Kentucky and Ohio).
2 days—second weekend in July | Marietta Riverfront Roar/Marietta Riverfront Roar | Marietta, OH | Ohio River, Mile 171.6-172.6 (Ohio).
1 day—1st weekend in July | Gallia County Chamber of Commerce/Gallipolis River Recreation Festival | Gallipolis, OH | Ohio River, Mile 269.5-270.5 (Ohio).
1 day—July 4th | Kindred Communications/Dawg Dazzle | Huntington, WV | Ohio River, Mile 307.8-308.8 (West Virginia).
1 day—Last weekend in August | Swiss Wine Festival/Swiss Wine Festival Fireworks Show | Ghent, KY | Ohio River, Mile 537 (Kentucky).
1 day—Saturday of Labor Day weekend | University of Pittsburgh Athletic Department/University of Pittsburgh Fireworks | Pittsburgh, PA | Allegheny River, Mile 0.0-0.25 (Pennsylvania).
Sunday, Monday, or Thursday from September through January | Pittsburgh Steelers/Steeler Fireworks | Pittsburgh, PA | Ohio River, Mile 0.3—Allegheny River, Mile 0.2 (Pennsylvania).
1 day—Third weekend in September | Wheeling Heritage Port Sternwheel Festival Foundation/Wheeling Heritage Port Sternwheel Festival | Wheeling, WV | Ohio River, Mile 90.2-90.7 (West Virginia).
1 day—First or second weekend in October | Zambelli Fireworks/American Pyrotechnic Association Annual Convention Fireworks Display | Louisville, KY | Ohio River, Miles 602.0-606.0 (Kentucky).
1 day—Second weekend of October | Leukemia and Lymphoma Society/Light the Nights Fireworks | Nashville, TN | Cumberland River, Mile 190.0-192.0 (Tennessee).
1 day—First week in October | Leukemia & Lymphoma Society/Light the Night | Pittsburgh, PA | Ohio River, Mile 0.0-0.4 (Pennsylvania).
1 day—Friday before Thanksgiving | Duquesne Light/Santa Spectacular | Pittsburgh, PA | Monongahela River, Mile 0.00-0.22, Allegheny River, Mile 0.00-0.25, and Ohio River, Mile 0.0-0.3 (Pennsylvania).

Two annual or recurring new safety zones under the new Table 2 for Sector Upper Mississippi River.

Date | Sponsor/name | Sector Upper MS River location | Safety zone
2nd Weekend in August | Lansing Lion's Club/Lansing Fish Days Fireworks | Lansing, IA | Upper Mississippi River mile marker 662.8-663.9 (Iowa).
3rd Weekend in August | River Action/Floatzilla | Rock Island, Illinois | Upper Mississippi River mile marker 479.0-486.0 (Ilinois).

One annual or recurring new safety zone added under the new Table 3 for Sector Houston-Galveston.

Date | Sponsor/name | Sector Houston-Galveston location | Safety zone
4th of July | Red, White, Blue and You Fireworks Display/City of Lake Charles | Lake Charles, LA | All waters within a 1000-foot radius of the fireworks barge anchored in approximate position 30°13′39″ N, 093°13′42″ W, Lake Charles, LA (NAD 83).

One annual or recurring new safety zone added under the new Table 4 for Sector Corpus Christi.

Date | Sponsor/name | Sector Corpus Christi location | Safety zone
July 4th Rain dates of July 5th and July 6th | City of South Padre Island/South Padre Island July 4th Fireworks | Lower Laguna Madre, South Padre Island, TX | All waters contained within a 1,000-ft radius of the fireworks display barge moored at approximate position 26°06′19″ N 097°10′55.4″ W, South Padre Island, TX.

One annual or recurring new safety zone added under the new Table 6 for Sector Lower Mississippi.

Date | Sponsor/name | Sector Lower MS River location | Safety zone | Date
4th of July Weekend | Monroe Renaissance | Ouachita River, Monroe, LA | Regulated Area: Ouachita River mile marker 168.0 to 169.0, Monroe, LA | 4th of July Weekend.

This rule removes the following 12 safety zone regulations from the existing Table 1 in § 165.801 as follows:

Date | Sponsor/name | Location | Regulated area
May through September (Needs Notice of Implementation via Local Notice to Mariners) | Riverbend Music Center/Riverbend Concerts Series | Ohio River, Cincinnati, OH | Ohio River mile marker 461.1 to 461.4 Cincinnati, OH.
First Friday in June | WV Special Olympics | Kanawha River, Charleston, WV | Kanawha River, mile marker 57.9 to 58.9. A mile down from the Kanawha City bridge to the confluence of the Elk and Ohio Rivers.
Third weekend in July | Paducah Parks Festival | Ohio River Paducah, KY | Ohio River, mile marker 934.0 to 936.0.
July 4th | Wellsburg 4th of July Committee/Wellsburg 4th July | Ohio River, Wellsburg, WV | Ohio River, mile marker 73.5 to 74.5 Wellsburg, WV.
1 day—July 4th | Growth Alliance for Greater Evansville/Evansville Festival | Ohio River, M 792.0-793.5 Evansville, KY | Bank to Bank of the Ohio River, mile marker 792.0 to 793.5.
July 4th | Big Sandy Superstore Arena/Dawg Dazzle Fireworks Spectacular | Ohio River, Huntington, WV | Ohio River, mile marker 307.8 to 308.8. One-half mile up and down river from the Harris Riverfront Park.
Third Saturday in August | Parkersburg Homecoming Festival | Ohio River, Parkersburg WV | Ohio River, mile marker 184.0 to 185.0. One-half mile up and down river from the confluence of the Little Kanawha and the Ohio River.
First Sunday in September | Portsmouth Riverdays | Ohio River, Portsmouth, OH | Ohio River, mile marker 355.5 to 356.5 Portsmouth, OH. From the confluence of the Scioto and Ohio Rivers, one mile upriver to the U.S. Highway Grant Bridge.
Second or Third weekend in September | Ohio Sternwheel Festival | Parkersburg, WV Ohio River | Safety Zone for the fireworks display, extending from mile 171.5 to 172.5 (about a ½ a mile up and down river from the confluence of the Ohio and Muskingum Rivers). Also a restricted area for the stern-wheel race reenactment extending from mile marker 172.4 to 170.3.2 on the Ohio River. (See 33 CFR 100).
Second Saturday in October | Rod Run Doo Wop | Kanawha River, Charleston, WV | Kanawha River, mile marker 57.5 to 59.0 Downstream from I-64 Bridge IN Charleston, WV to one upriver.
Odd Week Fridays from April thru September | Corpus Christi Hooks Baseball Team/Friday Night Fireworks | Corpus Christi Ship Channel, Corpus Christi, TX | All waters contained within a 1,000-ft radius of the Corpus Christi Hooks stadium parking lot located at approximate position 27°48′39.2″ N 097°23′55.2″ W, Corpus Christi, TX.
MS Gulf Coast Boaters Rendezvous/MS Gulf Coast Billfish Classic | Biloxi Channel, Biloxi, MS | Biloxi Channel, all waters extending 200 yards around channel buoy No. 26 | MS Gulf Coast Boaters Rendezvous/MS Gulf Coast Billfish Classic.

Regulatory Analyses

We developed this rule after considering numerous statutes and executive orders related to rulemaking. Below we summarize our analyses based on a number of these statutes or executive orders.

Regulatory Planning and Review

This rule is not a significant regulatory action under section 3(f) of Executive Order 12866, Regulatory Planning and Review, as supplemented by Executive Order 13563, Improving Regulation and Regulatory Review, and does not require an assessment of potential costs and benefits under section 6(a)(3) of that Executive Order 12866 or under section 1 of Executive Order 13563. The Office of Management and Budget has not reviewed it under that those Orders.

The Coast Guard expects the economic impact of this rule to be so minimal that a full regulatory evaluation is unnecessary. This rule establishes safety zones limiting access to certain areas under 33 CFR 165 within the Eighth Coast Guard District. The effect of this rulemaking will not be significant because these safety zones are limited in scope and duration. Additionally, the public is given advance notification through local forms of notice, the Federal Register, and/or Notices of Enforcement and thus will be able to plan operations around the safety zones in advance. Deviation from the safety zones established through this rulemaking may be requested from the appropriate COTP and requests will be considered on a case-by-case basis.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000.

This rule may affect the following entities, some of which might be small entities: The owners or operators of vessels intending to transit the safety zone areas during periods of enforcement. The safety zones will not have a significant economic impact on a substantial number of small entities because they are limited in scope and will be in effect for short periods of time. Before the enforcement period, the Coast Guard COTP will issue maritime advisories widely available to waterway users. Deviation from the safety zones established through this rulemaking may be requested from the appropriate COTP and requests will be considered on a case-by-case basis.

Therefore, the Coast Guard certifies under 5 U.S.C. 605(b) that this interim final rule will not have a significant economic impact on a substantial number of small entities.

Assistance for Small Entities

Under section 213(a) of the Small Business Regulatory Enforcement Fairness Act of 1996 (Pub. L. 104-121), we offer to assist small entities in understanding the rule so that they can better evaluate its effects on them and participate in the rulemaking process. Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small businesses. If you wish to comment on actions by employees of the Coast Guard, call 1-888-REG-FAIR (1-888-734-3247). The Coast Guard will not retaliate against small entities that question or complain about this rule or any policy or action of the Coast Guard.

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule will not result in such an expenditure, we do discuss the effects of this rule elsewhere in this preamble.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not create an environmental risk to health or risk to safety that may disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This rule does not use technical standards. Therefore, we did not consider the use of voluntary consensus standards.

Environment

We have analyzed this rule under Department of Homeland Security Management Directive 0023.1 and Commandant Instruction M16475.lD, which guide the Coast Guard in complying with the National Environmental Policy Act of 1969 (NEPA) (42 U.S.C. 4321-4370f), and have concluded that this action is one of a category of actions which do not individually or cumulatively have a significant effect on the human environment. This rule is categorically excluded under section 2.B.2, figure 2-1, paragraph (34)(g) of the Instruction because it involves establishment of safety zones. An Environmental analysis and a categorical exclusion determination will be made available in the docket as indicated under ADDRESSES.

List of Subjects in 33 CFR Part 165

Marine safety, Navigation (water), Reporting and recordkeeping requirements, and Waterways.

For the reasons discussed in the preamble, the Coast Guard amends 33 CFR part 165 as follows:

PART 165—REGULATED NAVIGATION AREAS AND LIMITED ACCESS AREAS

1. The authority citation for part 165 continues to read as follows:

Authority: 33 U.S.C. 1231; 46 U.S.C. Chapter 701, 3306, 3703; 50 U.S.C. 191; 33 CFR 1.05-1, 6.04-1, 6.04.6, and 160.5; Pub. L. 107-295, 116 Stat. 2064; Department of Homeland Security Delegation No. 0170.1.

2. Amend § 165.801 to revise table 1 and add tables 2 through 7 to read as follows:

§ 165.801 Annual fireworks displays and other events in the Eighth Coast Guard District requiring safety zones.

* * * * *

Table 1 of § 165.801—Sector Ohio Valley Annual and Recurring Safety Zones
Date | Sponsor/name | Location | Safety zone
1. Multiple days—April through November | Pittsburgh Pirates/Pittsburgh Pirates Fireworks | Pittsburgh, PA | Allegheny River, Mile 00.2-000.8 (Pennsylvania).
2. Multiple days—April through November | Cincinnati Reds/Cincinnati Reds Season Fireworks | Cincinnati, OH | Ohio River, Mile 470.1-470.4; extending 500 ft. from the State of Ohio shoreline (Ohio).
3. 2 days—Third Friday and Saturday in April | Thunder Over Louisville/Thunder Over Louisville | Louisville, KY | Ohio River, Mile 602.0-606.0 (Kentucky).
4. 3 days—Third weekend in April | Henderson Tri-Fest/Henderson Breakfast Lions Club | Henderson, KY | Ohio River, Mile 803.5-804.5 (Kentucky).
5. 1 day—A Saturday in July | Paducah Parks and Recreation Department/Cross River Swim | Paducah, KY | Ohio River, Mile 934.0-936.0 (Kentucky).
6. 1 Day—First Sunday in June | West Virginia Symphony Orchestra/Symphony Sunday | Charleston, WV | Kanawha River, Mile 59.5-60.5 (West Virginia).
7. 1 Day—Saturday before 4th of July | Riverfest Inc./Saint Albans Riverfest | St. Albans, WV | Kanawha River, Mile 46.3-47.3 (West Virginia).
8. 1 day—Third or fourth week in July | Upper Ohio Valley Italian Heritage Festival/Upper Ohio Valley Italian Heritage Festival Fireworks | Wheeling, WV | Ohio River, Mile 90.0-90.5 (West Virginia).
9. 1 day—Third or fourth of July | Harrah's Casino/Metropolis Fireworks | Metropolis, IL | Ohio River, Mile 942.0-945.0 (Illinois).
10. 1 day—During the first week of July | Louisville Bats Baseball Club/Louisville Bats Firework Show | Louisville, KY | Ohio River, Mile 603.0-604.0 (Kentucky).
11. 1 day—July 4th | Waterfront Independence Festival | Louisville, KY | Ohio River, Mile 603.0-604.0 (Kentucky).
12. 1 day—July 4th | Celebration of the American Spirit Fireworks | Owensboro, KY | Ohio River, Mile 755.0-759.0 (Kentucky).
13. 1 day—July 4th | Riverfront Independence Festival Fireworks | New Albany, IN | Ohio River, Mile 602.0-603.5 (Indiana).
14. 1 day—July 4th | Downtown Henderson Project/Henderson Independence Bank Fireworks | Henderson, KY | Ohio River, Mile 803.5-804.5 (Kentucky).
15. 1 day—July 4th | Shoals Radio Group/Spirit of Freedom Fireworks | Florence, AL | Tennessee River, Mile 255.0-257.0 (Alabama).
16. 1 day—Saturday before July 4th, or on July 4th if that day is a Saturday | Town of Cumberland City/Lighting Up the Cumberland Fireworks | Cumberland City, TN | Cumberland River, Mile 103.0-105.0 (Tennessee).
17. 1 day—July 4th | Lake Guntersville Chamber of Commerce/Lake Guntersville 4th of July Celebration | Guntersville, AL | Tennessee River, Mile 356.0-358.0 (Alabama).
18. 1 day—July 3rd or the weekend before July 3rd if the 3rd is on a weekday | City of Clarksville/Clarksville Independence Day Fireworks | Clarksville, TN | Cumberland River, Mile 103.0-105.0 (Tennessee).
19. 1 day—July 4th | Knoxville office of Special Events/Knoxville July 4th Fireworks | Knoxville, TN | Tennessee River, Mile 647.0-648.0 (Tennessee).
20. 1 day—July 4th | Nashville CVB/Music City July 4th | Nashville, TN | Cumberland River, Mile 190.0-192.0 (Tennessee).
21. 1 day—Saturday before July 4th, or Saturday after July 4th | Grand Harbor Marina/Grand Harbor Marina July 4th Celebration | Counce, TN | Tennessee-Tombigbee Waterway, Mile 450.0-450.5 (Tennessee).
22. 1 day—Second Saturday in July | City of Bellevue, KY/Bellevue Beach Park Concert Fireworks | Bellevue, KY | Ohio River, Mile 468.2-469.2 (Kentucky and Ohio).
23. 1 day—Sunday before Labor Day | Cincinnati Bell, WEBN, and Proctor and Gamble/Riverfest | Cincinnati, OH | Ohio River, Mile 469.2-470.5 (Kentucky and Ohio).
24. 1 day—July 4th | Summer Motions Inc./Summer Motion | Ashland, KY | Ohio River, Mile 322.1-323.1 (Kentucky).
25. 1 day—Last weekend in June or First weekend in July | City of Point Pleasant/Point Pleasant Sternwheel Fireworks | Point Pleasant, WV | Ohio River, Mile 265.2-266.2 (West Virginia).
26. 1 day—July 3rd or 4th | City of Charleston/City of Charleston Independence Day Celebration | Charleston, WV | Kanawha River, Mile 58.1-59.1 (West Virginia).
27. 1 day—July 4th | Civic Forum/Civic Forum 4th of July Celebration | Portsmouth, OH | Ohio River, Mile 355.5-356.5 (Ohio).
28. 1 day—Second Saturday in August | Guyasuta Days Festival/Borough of Sharpsburg | Pittsburgh, PA | Allegheny River, Mile 005.5-006.0 (Pennsylvania).
29. 1 day—Fourth week of August | Pittsburgh Foundation/Bob O'Connor Cookie Cruise | Pittsburgh, PA | Ohio River, Mile 0.5-0.0 (Pennsylvania).
30. 1 day—Labor Day weekend | Knoxville Tourism and Sports Corporation/Boomsday Festival | Knoxville, TN | Tennessee River, Mile 647.0-648.0 (Tennessee).
31. 1 day—Friday after Thanksgiving | Chattanooga Presents/Grand Illumination | Chattanooga, TN | Tennessee River, Mile 463.0-469.0 (Tennessee).
32. 1 day—December 31 | Pittsburgh Cultural Trust/Highmark First Night Pittsburgh | Pittsburgh, PA | Allegheny River Mile, 0.5-1.0 (Pennsylvania).
33. 1 day—Friday before Thanksgiving | Pittsburgh Downtown Partnership/Light Up Night | Pittsburgh, PA | Allegheny River, Mile 0.0-1.0 (Pennsylvania).
34. Multiple days—April through November | Pittsburgh Riverhounds/Riverhounds Fireworks | Pittsburgh, PA | Monongahela River, Mile 0.22-0.77.
35. 3 days—Second or third weekend in June | Hadi Shrine/Evansville Freedom Festival Air Show | Evansville, IN | Ohio River, Miles 791.0-795.0 (Indiana).
36. 1 day—Second or third Saturday in June, the last day of the Riverbend Festival | Friends of the Festival, Inc./Riverbend Festival Fireworks | Chattanooga, TN | Tennessee River, Mile 463.5-464.5 (Tennessee).
37. 2 days—Second Friday and Saturday in June | City of Newport, KY/Italianfest | Newport, KY | Ohio River, Miles 469.6-470.0 (Kentucky and Ohio).
38. 1 day—Last Saturday in June | City of Aurora/Aurora Firecracker Festival | Aurora, IN | Ohio River Mile, 496.7; 1400 ft. radius from the Consolidated Grain Dock located along the State of Indiana shoreline at (Indiana and Kentucky).
39. 1 day—second weekend in June | City of St. Albans/St. Albans Town Fair | St. Albans, WV | Kanawha River, Mile 46.3-47.3 (West Virginia).
40. 1 day—Saturday before July 4th | PUSH Beaver County/Beaver County Boom | Beaver, PA | Ohio River, Mile 024.3-025.1 (Pennsylvania).
41. 1 day—4th of July (Rain date—July 5th) | Monongahela Area Chamber of Commerce/Monongahela 4th of July Celebration | Monongahela, PA | Monongahela River, Mile 032.0-033.0 (Pennsylvania).
42. 1 day—Saturday of the last full week in July (Rain date—following Sunday) | Oakmont Yacht Club/Oakmont Yacht Club Fireworks | Oakmont, PA | Allegheny River, Mile 12.0-12.5 (Pennsylvania).
43. 2 days—Week of July 4th | Three Rivers Regatta/Three River Regatta and Fireworks | Pittsburgh, PA | Ohio River, Mile 0.0-0.5, Allegheny River, Mile 0.0-0.5, and Monongahela River, Mile 0.0-0.5 (Pennsylvania).
44. 1 day—3rd or 4th of July | City of Paducah, KY | Paducah, KY | Ohio River, Mile 931.0-933.0 (Kentucky).
45. 1 day—3rd or 4th of July | City of Hickman, KY | Hickman, KY | Lower Mississippi River, Mile 921.0-923.0 (Kentucky).
46. 1 day—During the first week of July | Evansville Freedom Celebration | Evansville, IN | Ohio River, Miles 791.0-795.0 (Indiana).
47. 3 days—One of the first two weekends in July | Madison Regatta, Inc./Madison Regatta | Madison, IN | Ohio River, Miles 555.0-560.0 (Indiana).
48. 1 day—July 4th | Cities of Cincinnati, OH and Newport, KY/July 4th Fireworks | Newport, KY | Ohio River, Miles 469.6-470.2 (Kentucky and Ohio).
49. 2 days—second weekend in July | Marietta Riverfront Roar/Marietta Riverfront Roar | Marietta, OH | Ohio River, Mile 171.6-172.6 (Ohio).
50. 1 day—1st weekend in July | Gallia County Chamber of Commerce/Gallipolis River Recreation Festival | Gallipolis, OH | Ohio River, Mile 269.5-270.5 (Ohio).
51. 1 day—July 4th | Kindred Communications/Dawg Dazzle | Huntington, WV | Ohio River, Mile 307.8-308.8 (West Virginia).
52. 1 day—Last weekend in August | Swiss Wine Festival/Swiss Wine Festival Fireworks Show | Ghent, KY | Ohio River, Mile 537 (Kentucky).
53. 1 day—Saturday of Labor Day weekend | University of Pittsburgh Athletic Department/University of Pittsburgh Fireworks | Pittsburgh, PA | Allegheny River, Mile 0.0-0.25 (Pennsylvania).
54. Sunday, Monday, or Thursday from September through January | Pittsburgh Steelers/Steeler Fireworks | Pittsburgh, PA | Ohio River, Mile 0.3-Allegheny River, Mile 0.2 (Pennsylvania).
56. 1 day—Third weekend in September | Wheeling Heritage Port Sternwheel Festival Foundation/Wheeling Heritage Port Sternwheel Festival | Wheeling, WV | Ohio River, Mile 90.2-90.7 (West Virginia).
57. 1 day—First or second weekend in October | Zambelli Fireworks/American Pyrotechnic Association Annual Convention Fireworks Display | Louisville, KY | Ohio River, Miles 602.0-606.0 (Kentucky).
58. 1 day—Second weekend of October | Leukemia and Lymphoma Society/Light the Nights Fireworks | Nashville, TN | Cumberland River, Mile 190.0-192.0 (Tennessee).
59. 1 day—First week in October | Leukemia & Lymphoma Society/Light the Night | Pittsburgh, PA | Ohio River, Mile 0.0-0.4 (Pennsylvania).
60. 1 day—Friday before Thanksgiving | Duquesne Light/Santa Spectacular | Pittsburgh, PA | Monongahela River, Mile 0.00-0.22, Allegheny River, Mile 0.00-0.25, and Ohio River, Mile 0.0-0.3 (Pennsylvania).

Table 2 of § 165.801—Sector Upper Mississippi River Annual and Recurring Safety Zones
Date | Sponsor/name | Sector Upper Mississippi River location | Safety zone
1. 1 day—4th weekend of July | Marketing Minneapolis LLC/Target Aquatennial Fireworks | Minneapolis, MN | Upper Mississippi River mile marker 853.2 to 854.2 (Minnesota).
2. 1 day—4th of July weekend | Radio Dubuque/Radio Dubuque Fireworks and Airs Show | Dubuque, IA | Upper Mississippi River mile marker 581.0 to 583.0 (Iowa).
3. 2 days—2nd weekend of July | City of Champlin/Father Hennepin Fireworks Display | Champlin, MN | Upper Mississippi River mile marker 870.5 to 872.0 (Minnesota).
4. 1 day—4th of July weekend | Downtown Main Street/Mississippi Alumination | Red Wing, MN | Upper Mississippi River mile marker 790.8 to 791.2 (Minnesota).
5. 1 day—4th of July weekend | Tan-Tar-A Resort/Tan-Tar-A 4th of July Fireworks | Lake of the Ozarks, MO | Lake of the Ozarks mile marker 025.8 to 026.2 (Missouri).
6. 1 day—1st weekend of September | Tan-Tar-A Resort/Tan-Tar-A Fireworks | Lake of the Ozarks, MO | Lake of the Ozarks mile marker 025.8 to 026.2 (Missouri).
7. 1 day—Last Sunday in May | Tan-Tar-A Resort/Tan-Tar-A Memorial Day Fireworks | Lake of the Ozarks, MO | Lake of the Ozarks mile marker 025.8 to 026.2 (Missouri).
8. 1 day—4th of July weekend | Lake City Chamber of Commerce/Lake City 4th of July Fireworks | Lake City, MN | Upper Mississippi River mile marker 772.4 to 772.8 (Minnesota).
9. 1 day—4th of July weekend | Greater Muscatine Chamber of Commerce/Muscatine 4th of July | Muscatine, IA | Upper Mississippi River mile marker 455.0 to 456.0 (Iowa).
10. 1 day—Last weekend in June/First weekend in July | Friends of the River Kansas City/KC Riverfest | Kansas City, KS | Missouri River mile marker 364.8 to 365.2 (Kansas).
11. 1 day—4th of July weekend | Louisiana Chamber of Commerce/Louisiana July 4th Fireworks | Louisiana, MO | Upper Mississippi River mile marker 282.0 to 283.0 (Missouri).
12. 1 day—2nd weekend in July | Guttenderg Development and Tourism/Stars and Stripes River Day | Guttenderg, IA | Upper Mississippi River mile marker 614.8 to 615.2 (Iowa).
13. 4 days—1st or 2nd week of July | Riverfest, Inc./La Crosse Riverfest | La Crosse, WI | Upper Mississippi River mile marker 697.5 to 698.5 (Wisconsin).
14. 1 day—4th of July weekend | Hannibal Jaycees/National Tom Sawyer Days | Hannibal, MO | Upper Mississippi River mile marker 308.0 to 309.0 (Missouri).
15. 1 day—4th of July weekend | Fort Madison Partner/Fort Madison Fourth of July Fireworks | Fort Madison, WI | Upper Mississippi River mile marker 383.0 to 384.0 (Wisconsin).
16. 5 days—Last week in June/First week in July | Taste of Minnesota/Taste of Minnesota | Minneapolis, MN | Upper Mississippi River mile marker 839.8 to 840.2 (Minnesota).
17. 1 day—4th of July weekend | John E. Curran/John E. Curran Fireworks | Lake of the Ozarks, MO | Lake of the Ozarks mile marker 008.8 to 009.2 (Missouri).
18. 1 day—2nd weekend in July | Prairie du Chien Area Chamber of Commerce/Prairie du Chien Area Chamber Fireworks | Prairie du Chien, WI | Upper Mississippi River mile marker 633.8 to 634.2 (Wisconsin).
19. 1 day—4th of July weekend | JMP Radio/Red White and Boom Peoria | Peoria, IL | Illinois River mile marker 162.5 to 162.1 (Illinois).
20. 1 day—Last weekend in June/First weekend in July | Hudson Boosters/Hudson Booster Days | Hudson, WI | St. Croix River mile marker 016.8 to 017.2 (Wisconsin).
21. 2 days—4th of July weekend | City of St. Charles/St. Charles Riverfest | St. Charles, MO | Missouri River mile marker 028.2 to 028.8 (Missouri).
22. 1 day—4th of July weekend | Minneapolis Park and Recreation Board/Red, White, and Boom Minneapolis | Minneapolis, MN | Upper Mississippi River mile marker 853.5 to 854.5 (Minnesota).
23. 1 day—4th of July weekend | Davenport One Chamber/Red White and Boom | Davenport, IA | Upper Mississippi River mile marker 482.0 to 482.7 (Iowa).
24. 2 days—3rd weekend of July | Amelia Earhart Festival Committee/Amelia Earhart Festival | Kansas City, KS | Missouri River mile marker 422.0 to 424.5 (Kansas).
25. 1 day—4th of July weekend | Chillicothe Police Department/Chillicothe 4th of July | Chillicothe, IL | Illinois River mile marker 179.1 to 180.0 (Illinois).
26. 2 days—2nd weekend in July | Clinton Riverboat Days/Clinton Riverboat Days | Clinton, IA | Upper Mississippi River mile marker 518.0 to 519.0 (Iowa).
27. 1 day—4th of July weekend | Harrah's Casino and Hotel/Harrah's Fireworks Extravaganza | Omaha, NE | Missouri River mile marker 615.0 to 615.6 (Nebraska).
28. 1 day—4th of July weekend | Alton Exposition Commission/Mississippi Fireworks Festival | Alton, IL | Upper Mississippi River mile marker 202.5 to 203.0 (Illinois).
29. 1 day—3rd Sunday in June | Burlington Steamboat Days/Burlington Steamboat Days | Burlington, IA | Upper Mississippi River mile marker 403.5 to 404.5 (Iowa).
30. 1 day—Last Sunday in May | Lodge of the Four Seasons/Lodge of the Four Seasons Memorial Day Fireworks | Lake of the Ozarks, MO | Lake of the Ozarks mile marker 013.8 to 014.2 (Missouri).
31. 1 day—First weekend of September | Lodge of the Four Seasons/Labor Day Fireworks | Lake of the Ozarks, MO | Lake of the Ozarks mile marker 013.8 to 014.2 (Missouri).
32. 1 day—4th of July weekend | Lodge of the Four Seasons/Lodge of the Four Seasons 4th of July | Lake of the Ozarks, MO | Lake of the Ozarks mile marker 013.8 to 014.2 (Missouri).
33. 2 days—3rd weekend in July | Hasting Riverboat Days/Rivertown Days | Hasting, MN | Upper Mississippi River mile marker 813.7 to 815.2 (Minnesota).
34. 1 day—3rd Sunday in June | Winona Steamboat Days/Winona Steamboat Days Fireworks | Winona, MN | Upper Mississippi River mile marker 725.4 to 725.7 (Minnesota).
35. 2 days—4th of July weekend | Fair of St. Louis/Fair St. Louis | St. Louis, MO | Upper Mississippi River mile marker 179.2 to 180.0 (Missouri).
36. Friday and Saturday, every weekend from the 2nd weekend of July until the 2nd weekend in August | Fair of St. Louis/Live on the Levee | St. Louis, MO | Upper Mississippi River mile marker 179.2 to 180.0 (Missouri).
37. 1 day—Last weekend in June/First weekend in July | Bellevue Heritage Days/Bellevue Heritage Days | Bellevue, IA | Upper Mississippi River mile marker 556.0 to 556.5 (Iowa).
38. 1 day—4th of July weekend | Main Street Parkway Association/Parkville 4th of July Fireworks | Parkville, MO | Missouri River mile marker 378.0 to 377.5 (Missouri).
39. 1 day—4th of July weekend | Hermann Chamber of Commerce/Hermann 4th of July | Hermann, MO | Missouri River mile marker 099.0 to 098.0 (Missouri).
40. 1 day—4th of July weekend | Grafton Chamber of Commerce/Grafton Chamber 4th of July Fireworks | Grafton, IL | Illinois River mile marker 001.5 to 000.5 (Illinois).
41. 1 day—4th of July weekend | Salute to America Foundation, Inc./Salute to America | Jefferson City, MO | Upper Mississippi River mile marker 143.5 to 143.0 (Missouri).
42. 1 day—4th of July weekend | McGregor/Marquette Chamber Commerce/Independence Day Celebration | McGregor, IA | Upper Mississippi River mile marker 635.7 to 634.2 (Missouri).
43. 2 days—2nd weekend in August | Tug Committee/Great River Tug | Port Byron, IL | Upper Mississippi River mile marker 497.2 to 497.6 (Illinois).
44. 1 day—4th of July weekend | City of Stillwater/St. Croix Events/Stillwater 4th of July | Stillwater, MN | St. Croix River mile marker 022.9 to 023.5 (Minnesota).
45. 2 days—3rd weekend of September | Riverside Riverfest Committee/Riverfest | Riverside, MO | Missouri River mile marker 372.2 to 371.8 (Missouri).
46. 4 days—3rd week of July | St. Croix Events/Lumberjack Days | Stillwater, MN | St. Croix River mile marker 022.9 to 023.5 (Minnesota).
47. 1 day—3rd week in July | Rivercade Association/Sioux City Rivercade | North Sioux City, SD | Missouri River mile marker 732.2 to 732.6 (Iowa).
48. 2 days—3rd weekend in August | Lake of the Ozarks Shootout, Inc./Lake of the Ozarks Shootout | Lake of the Ozarks, MO | Lake of the Ozarks mile marker 034.5 to 032.5 (Missouri).
49. 1 day—1st weekend of September | Camden on the Lakes Labor Day Fireworks/Camden on the Lake | Lake of the Ozarks, MO | Lake of the Ozarks mile marker 007.1 to 006.9 (Missouri).
50. 2 days—1st weekend of September | City of Keithsburg/Keithsburg Fireworks Display | Keithsburg, IL | Upper Mississippi River mile marker 427.5 to 427.3 (Missouri).
51. 1 day—1st weekend of August | New Piasa Chautauqua/New Piasa Chautauqua | Elsah, IL | Upper Mississippi River mile marker 215.6 to 216.0 (Illinois).
52. 1 day—last weekend in May | Horny Toad, Inc./Horny Toad Fireworks Display | Lake of the Ozarks, MO | Lake of the Ozarks mile marker 006.8 to 007.2 (Missouri).
53. 1 day—4th of July weekend | Omaha Royals/Omaha World Herald Fireworks | Omaha, NE | Missouri River mile marker 612.1 to 613.9 (Nebraska).
54. 1 day—Last weekend in July | Great River Days, Inc./Great River Days | Muscatine, IA | Upper Mississippi River mile marker 455.0 to 456.0 (Iowa).
55. 1 day—4th of July weekend | City of East Moline/City of East Moline Fireworks | East Moline, IA | Upper Mississippi River mile marker 490.2 to 489.8 (Iowa).
56. 2nd Weekend in August | Lansing Lion's Club/Lansing Fish Days Fireworks | Lansing, IA | Upper Mississippi River mile marker 662.8-663.9 (Iowa).
57. 3rd Weekend in August | River Action/Floatzilla | Rock Island, Illinois | Upper Mississippi River mile marker 479.0-486.0 (Ilinois).

Table 3 of § 165.801—Sector Houston-Galveston Annual and Recurring Safety Zones
Date | Sponsor/name | Sector Houston-Galveston location | Safety zone
1. 1st Saturday (Rain date is 1st Sunday) in May | RIVERFEST Fireworks Display/Port Neches Chamber of Commerce, Port Neches, TX | Neches River, Port Neches, TX | All waters within a 500-yard radius of the fireworks barge anchored in approximate position 29°59′51″ N 093°57′06″ W (NAD 83).
2. 2nd Saturday in May | Contraband Days Fireworks Display/Contraband Days Festivities, Inc | Lake Charles, Lake Charles, LA | All waters within a 1000-foot radius of the fireworks barge anchored in approximate position 30°13′39″ N, 093°13′42″ W, Lake Charles, LA (NAD 83).
3. July 4th night and every Friday night in June and July | Kemah Board Walk Summer Season Fireworks Display, Kemah, TX | Clear Lake, TX | Clear Creek Channel, including the area within an 840-foot radius of the fireworks barge on the south side of the channel, 100 ft off of Kemah Boardwalk in Galveston, TX and an Rectangle extending 500 feet east, 500 feet west; 1000 feet north, and 1000 feet south, centered around fireworks barge at Light 19 on Clear Lake, Houston, TX.
4. July 4th | Sylvan Beach Fireworks | La Porte, TX | Rectangle Extending 250 feet east, 250 feet west; 1000 feet north, and 1000 feet south, centered around fireworks barge located at Sylvan Beach, Houston, TX.
5. July 4th (Rain date July 5th) | City of Beaumont 4th of July Celebration/City of Beaumont, TX | Neches River at Riverfront Park, Beaumont, TX | All waters of the Neches River, shoreline to shoreline, from the Trinity Industries dry dock to the northeast corner of the Port of Beaumont's dock No. 5.
6. 1st Saturday in December | Christmas Fireworks Display/City of Lake Charles, LA | Lake Charles, Lake Charles, LA | All waters within a 1000-foot radius of the fireworks barge anchored in approximate position 30°13′39″ N, 093°13′42″ W, Lake Charles, LA (NAD 83).
7. 4th of July | Red, White, Blue and You Fireworks Display/City of Lake Charles | Lake Charles, LA | All waters within a 1000-foot radius of the fireworks barge anchored in approximate position 30°13′39″ N, 093°13′42″ W, Lake Charles, LA (NAD 83).

Table 4 of § 165.801—Sector Corpus Christi Annual and Recurring Safety Zones
Date | Sponsor/name | Sector Corpus Christi location | Safety zone
1. Memorial Day Weekend | South Padre Island Convention & Visitors Bureau/Laguna Madre Memorial Day Firework | Lower Laguna Madre, South Padre Island, TX | All waters contained within a 1000-ft radius of the fireworks display barge moored at approximate location 26°06′19″ N 097°10′55.4″ W, South Padre Island, TX.
2. 2nd, 3rd or 4th Monday in June | Cameron County Clerk's Office/Texas District Court Clerk′s Convention Fireworks | Lower Laguna Madre, South Padre Island, TX | All waters contained within a 1,000-ft radius of the fireworks display barge moored at approximate position 26°06′19″ N 097°10′55.4″ W, South Padre Island, TX.
3. July 4th Rain dates of July 5th and July 6th | City of Port Aransas/Port Aransas 4th of July Fireworks | Corpus Christi Ship Channel—Port Aransas, TX | All waters contained within a 600-ft radius of a point halfway between Port Aransas Harbor Day Beacon 2 to Port Aransas Ferry Landing in the Corpus Christi Ship Channel, Port Aransas, TX.
4. July 4th Rain dates of July 5th and July 6th | Buccaneer Commission/4th of July Big Bang Fireworks | USS Lexington/Corpus Christi, TX | All waters contained within a 1,000-ft radius from the bow of the USS Lexington located at approximate position 27°48′50″ N 097°23′18.2″ W, Corpus Christi, TX.
5. July 4th Rain dates of July 5th and July 6th | City of Port O'Connor Chamber of Commerce/4th of July Fireworks | King Fisher Park, Port O'Connor, TX | All waters contained within a 1,120-ft radius of the furthest extent of the King Fisher Pier located at approximate position 28°27′15.6″ N 096°24′11.9″ W, Port O′Connor, TX.
6. July 4th Rain dates of July 5th and July 6th | City of Point Comfort/4th of July Fireworks | Bayfront Park, Point Comfort, TX | All waters contained within a 1,000-ft radius of Bayfront Park located at approximate position 28°40′52.8″ W 096°33′49.2″ W, Point Comfort, TX.
7. July 4th Rain dates of July 5th and July 6th | City of Rockport/Wendell Family Fireworks | Rockport Beach Park/Rockport, TX | All waters contained within a 700-ft radius of the northeast point of Rockport Beach Park located at approximate position 28°02′05.2″ N 097°02′048″ W, Rockport, TX.
8. Last Saturday in September | Bayfest, Inc./Bayfest Fireworks | USS Lexington/Corpus Christi, TX | All waters contained within a 1,000-ft radius from the bow of the USS Lexington located at approximate position 27°48′50″ N 097°23′18.2″ W, Corpus Christi, TX.
9. Friday nights from May thru September | Boys & Girls Club of Laguna Madre/Fireworks over the Bay | Lower Laguna Madre, South Padre Island, TX | All waters contained within a 1,000-ft radius of the fireworks display barge moored at approximate position 26°06′19″ N 097°10′55.4″ W, South Padre Island, TX.
10. Labor Day weekend | Laguna Madre Education Foundation/Laguna Madre Labor Day Fireworks | Lower Laguna Madre, South Padre Island, TX | All waters contained within a 1,000-ft radius of the fireworks display barge moored at approximate position 26°06′19″ N 097°10′55.4″ W, South Padre Island, TX.
11. 1st or 2nd Friday and Saturday in December | City of Rockport/Rockport “Tropical” Christmas Festival Fireworks | Rockport Beach Park/Rockport, TX | All waters contained within a 700-ft radius of the northeast point of Rockport Beach Park located at approximate position 28°02′05.2″ N 097°02′048″ W, Rockport, TX.
12. December 30th, 31st or Jan 1st | South Padre Island Convention & Visitors Bureau/SPI New Year′s Fireworks | Lower Laguna Madre, South Padre Island, TX | All waters contained within a 1,000-ft radius of the fireworks display barge moored at approximate position 26°06′19″ N 097°10′55.4″ W, South Padre Island, TX.
13. Odd Week Fridays from April thru September | Corpus Christi Hooks Baseball Team/Friday Night Fireworks | Corpus Christi Ship Channel, Corpus Christi, TX | All waters contained within a 1,000-ft radius of the Corpus Christi Hooks stadium parking lot located at approximate position 27°48′39.2″ N 097°23′55.2″ W, Corpus Christi, TX.
14. July 4th Rain dates of July 5th and July 6th | City of South Padre Island/South Padre Island July 4th Fireworks | Lower Laguna Madre, South Padre Island, TX | All waters contained within a 1,000-ft radius of the fireworks display barge moored at approximate position 26°06′19″ N 097°10′55.4″ W, South Padre Island, TX.

Table 5 of § 165.801—Sector New Orleans Annual and Recurring Safety Zones
Date | Sponsor/name | Sector New Orleans location | Safety zone
1. Monday before Mardi Gras | Riverwalk Marketplace/Lundi Gras Fireworks Display | Mississippi River, New Orleans, LA | Mississippi River mile marker 93.0 to 96.0, New Orleans, LA.
2. July 3rd | St. John the Baptist/Independence Day celebration | Mississippi River, Reserve, LA | Mississippi River mile marker 175.0 to 176.0, Reserve, LA.
3. July 4th | Riverfront Marketing Group/Independence Day Celebration | Mississippi River, New Orleans, LA | Mississippi River mile marker 94.3 to 95.3, New Orleans, LA.
4. July 4th | Boomtown Casino/Independence Day Celebration | Harvey Canal, Harvey, LA | Harvey Canal mile marker 4.0 to 5.0, Harvey, LA.
5. 4th of July | Independence Day Celebration, Main Street 4th of July (Fireworks Display) | Morgan City, LA | Morgan City Port Allen Route mile marker 0.0 to 1.0, Morgan City, LA.
6. July 4th | WBRZ—The Advocate 4th of July Fireworks Display | Baton Rouge, LA | In the vicinity of the USS Kidd, the Lower Mississippi River from mile marker 228.8 to 230.0, Baton Rouge, LA.
7. The Saturday before July 4th or on July 4th if that day is a Saturday | Independence Day Celebration/Bridge Side Marine | Grand Isle, LA | 500 Foot Radius from the Pier located at Bridge Side Marine, 2012 LA Highway 1, Grand Isle, LA (Lat: 29°12′14″ N; Long: 090°02′28.47″ W).
8. 1st Weekend of September | LA Shrimp and Petroleum Festival Fireworks Display, LA Shrimp and Petroleum Festival and Fair Association | Morgan City, LA | Atchafalaya River at mile marker 118.5, Morgan City, LA.
9. 1st Weekend in December (Usually that Friday, subject to change due to weather) | Office of Mayor-President/Downtown Festival of Lights | Baton Rouge, LA | Located on Left Descending Bank, Lower Mississippi River north of the USS Kidd, at mile marker 230, Baton Rouge, LA.
10. December 31st | Crescent City Countdown Club/New Year's Celebration | Mississippi River, New Orleans, LA | Mississippi River mile marker 93.5-96.5, New Orleans, LA.
11. December 31st | Boomtown Casino/New Year's Celebration | Harvey Canal, Harvey, LA | Harvey Canal mile marker 4.0 to 5.0, Harvey, LA.
12. July 4th | USS Kidd Veterans Memorial/Fourth of July Star-Spangled Celebration | Baton Rouge, LA | In the vicinity of the USS Kidd, the Lower Mississippi River from mile marker 228.8 to 230.0, Baton Rouge, LA.

Table 6 of § 165.801—Sector Lower Mississippi River Annual and Recurring Safety Zones
Date | Sponsor/name | Sector Lower MS River location | Safety zone
1. The Sunday before Memorial Day | Riverfest Inc./Riverfest Fireworks display | Arkansas River, Little Rock, AR | Regulated Area: Arkansas River mile marker 118.8 to 119.5, Main Street Bridge, Little Rock, AR.
2. The Saturday before Memorial Day | Memphis in May/Sunset Symphony Fireworks Display | Lower Mississippi River, Memphis, TN | Regulated Area: Lower Mississippi River mile marker 735.0 to 736.0, Memphis, TN.
3. July 4th or the weekend before | Fourth of July Fireworks/Memphis Center City Commission | Lower Mississippi River, Memphis, TN | Regulated Area: Lower Mississippi River mile marker 735.5 to 736.5, Mud Island, Memphis, TN.
4. July 4th or the weekend before | Pops on the River Fireworks Display/Arkansas Democrat Gazette | Arkansas River, Little Rock, AR | Regulated Area: Arkansas River mile marker 118.8 to 119.5, Main Street Bridge, Little Rock, AR.
5. July 4th or the weekend before | Uncle Sam Jam Fireworks, Alexandria, LA/Champion Broadcasting of Alexandria | Red River, Alexandria, LA | Regulated Area: Red River mile marker 83.0 to 87.0, Alexandria, LA.
6. July 4th or the weekend before | Greenville Chamber of Commerce/Fourth of July Fireworks | Lake Ferguson, Greenville, MS | Regulated Area: Waters of Lake Ferguson extending 500 yards in all directions from the concrete pad, 33°24′34″ N, 091°03′58″ W, adjacent to the Lighthouse Casino, Greenville, MS.
7. July 4th or the weekend before | Pyro Fire Inc./Fourth of July Celebration | Yazoo River, Vicksburg, MS | Regulated Area: Yazoo River, mile marker 1.0 to 3.0, Vicksburg, MS.
8. July 4th or the weekend before | Artisan Pyro Inc./Fourth of July Celebration | Lower Mississippi River, Natchez, MS | Regulated Area: Lower Mississippi River, mile marker 365.5 to 364.5, Natchez, MS.
9. Third Friday and Saturday in October | The Great Mississippi River Balloon Race and Fireworks show/Great Mississippi River Balloon Race Committee | Lower Mississippi River, Natchez, MS | Regulated Area: Lower Mississippi River, mile marker 365.5 to 364.5, Natchez, MS.
10. Fourth Saturday in May | Memphis in May Air Show, Memphis in May | Lower Mississippi River, Memphis, TN | Regulated Area: Lower Mississippi River, mile marker 733.0 to 735.5, Memphis, TN.
11. First Saturday in December | Monroe Christmas Fireworks/Monroe Jaycee | Ouachita River, Monroe, LA | Regulated Area: Ouachita River mile marker 168.0 to 169.0, Monroe, LA.
12. 4th of July Weekend | Monroe Renaissance | Ouachita River, Monroe, LA | Regulated Area: Ouachita River mile marker 168.0 to 169.0, Monroe, LA.

Table 7 of § 165.801—Sector Mobile Annual and Recurring Marine Events
Date | Sponsor/name | Sector Mobile location | Safety zone
1. 1 Day; 1st week of January | GoDaddy Bowl/GoDaddy.com | Mobile Channel, Mobile, AL | Mobile Channel, all waters extending 200 yards in all directions from a fireworks display barge located in the Mobile Channel between the Arthur R. Outlaw Convention Center and Cooper Riverside Park.
2. Multiple dates from May to December | Harbor Walk Seasonal Fireworks/Legendary, Inc | East Pass to Choctawhatchee Bay, Destin, FL | East Pass to Choctawhatchee Bay, all waters extending 700′ in all directions from a fireworks display barge located in the East Pass.
3. 2 Days; 1st weekend in June | Billy Bowlegs Pirate Festival/Greater Fort Walton Beach Chamber of Commerce | Santa Rosa Sound, Ft. Walton Beach, FL | Santa Rosa Sound, all waters extending 150 yards around a fireworks display barge that will be located between Fort Walton Beach Landing and the Gulf Intracoastal Waterway.
4. July 4th | Niceville July 4th Fireworks Show/City of Niceville, FL | Boggy Bayou, Niceville, FL | Boggy Bayou, all waters extending 250 yards around a fireworks display barge that will be located west of the Dockside Café & Oyster Bar and Allen's Little Marina.
5. July 4th | Fourth of July Celebration/City of Fort Walton Beach | Santa Rosa Sound, Fort Walton Beach | Santa Rosa Sound, all waters extending 100 yards around a fireworks display barge that will be located between Fort Walton Beach Landing and the Gulf Intracoastal Waterway.
6. 1 Day; Last week in June or 1st week of July | Sound of Independence/Hurlburt Field AFB | Santa Rosa Sound, Mary Esther, FL | Santa Rosa Sound, all waters extending 200 yards around a fireworks display barge that will be located south of Hurlburt Field.
7. July 4th | Biloxi Bay Fireworks/Biloxi Bay Chamber of Commerce | Biloxi Bay, Biloxi, MS | Biloxi Bay, all waters extending 200 yards around a fireworks display barge that will be located south of the Biloxi Channel, between channel markers R“20” and R“22” and north of Deer Island.
8. December 31st/January 1st | New Year's Eve Celebration/City of Mobile | Mobile Channel, Mobile, AL | Mobile Channel, all waters extending 200 yards in all directions from a fireworks display barge located in the Mobile Channel between the Arthur R. Outlaw Convention Center and Cooper Riverside Park.
9. Biannually occurring during odd numbered years; 2 Days; Mid-March to end of April | Angels Over the Bay/Keesler Air Force Base | Back Bay Biloxi, Biloxi, MS | Back Bay Biloxi, Bounded by the following coordinates: Eastern boundary; Latitude 30°25′47.6″ N, Longitude 088°54′13.6″ W, to Latitude 30°24′43″ N, Longitude 088°54′13.6″ W. Western Boundary; Latitude 30°25′25.6″ N, Longitude 088°56′9″ W, to Latitude 30°24′55″ N, Longitude 088°56′9″ W.
10. 4 Days; 2nd weekend in July | Pensacola Beach Air Show/Santa Rosa Island Authority | Gulf of Mexico & Santa Rosa Sound, Pensacola, FL | Gulf of Mexico to include all waters 1.75 nautical miles east and 1.5 nautical miles west of position 30°19′36″ N, 087°08′23″ W and extending 1000 yards south of Pensacola Beach creating a box, referred to as the “Show Box”. Santa Rosa Sound to include all waters from Deer Point to Sharp Point and all waters within Little Sabine Bay.

Dated: April 7, 2014.
Kevin Cook,
Rear Admiral, U.S. Coast Guard, Commander, Eighth Coast Guard District.

[FR Doc. 2014-09061 Filed 4-21-14; 8:45 am]

BILLING CODE 9110-04-P